DEPARTMENT OF THE TREASURY

Submission for OMB Review; Comment Request

April 7, 2011.

The Department of the Treasury will submit the following public information collection requirements to OMB for review and clearance under the Paperwork Reduction Act of 1995, Public Law 104-13 on or after the date of publication of this notice. A copy of the submissions may be obtained by calling the Treasury Bureau Clearance Officer listed. Comments regarding these information collections should be addressed to the OMB reviewer listed and to the Treasury PRA Clearance Officer, Department of the Treasury, 1750 Pennsylvania Avenue, NW., Suite 11010, Washington, DC 20220.

DATES: Written comments should be received on or before May 12, 2011 to be assured of consideration.

Internal Revenue Service (IRS)

OMB Number: 1545-0002.

Type of Review: Extension without change of a currently approved collection.

Title: Employee Representative's Quarterly Railroad Tax Return.

Form: CT-2.

Abstract: Employee representatives file Form CT-2 quarterly to report compensation on which railroad retirement taxes are due. IRS uses this information to ensure that employee representatives have paid the correct tax. Form CT-2 also transmits the tax payment.

Respondents: Individual or Household.

Estimated Total Burden Hours: 127.

OMB Number: 1545-1634.

Type of Review: Extension without change of a currently approved collection.

Title: REG-106902-98 (Final) Consolidated Returns—Consolidated Overall Foreign Losses and Separate Limitation Losses.

Abstract: The regulations provide guidance relating to the amount of overall foreign losses and separate limitation losses in the computation of the foreign tax credit. The regulation affect consolidated groups of corporations that compute the foreign tax credit limitation or that dispose of property used in a foreign trade or business.

Respondents: Private sector: Businesses or other for-profits.

Estimated Total Burden Hours: 3,000.

OMB Number: 1545-1770.

Type of Review: Extension without change of a currently approved collection.

Title: REG-115054-01 (Final) Treatment of Community Income for Certain Individuals Not Filing Joint Returns.

Abstract: The regulations provide rules to determine how community income is treated under section 66 for certain married individuals in community property states who do not file joint individual Federal income tax returns. The regulations also reflect changes in the law made by the IRS Restructuring and Reform Act of 1998.

Respondents: Individuals or Households.

Estimated Total Burden Hours: 1.

OMB Number: 1545-1800.

Type of Review: Extension without change of a currently approved collection.

Title: Reportable Transaction Disclosure Statement and Pre-CAP/CAP Application Form.

Form: 8886.

Abstract: Form 8886 is used to disclose participation in reportable transactions by taxpayers as described in regulations 1.6011-4. The Compliance Assurance Process (CAP) is a strictly voluntary program available to LMSB taxpayers that meet the selection criteria. CAP is a real-time review of completed business transactions during the CAP year with the goal of providing certainty of the tax return within 90 days of the filing. The Pre-CAP/CAP Application Form is used by taxpayers wanting to join the program each year. Participation in the CAP program is completely voluntary and is only available for LMSB Taxpayers.

Respondents: Private sector: Businesses or other for-profits.

Estimated Total Burden Hours: 9,112.

OMB Number: 1545-2083.

Type of Review: Extension without change of a currently approved collection.

Title: Applicable Insurance Contracts Information Return.

Form: 8921.

Abstract: To comply with IRC section 6050V, as added by the Pension Protection Act of 2006, an applicable exempt organization must file a Form 8921 for each structured transaction under which it makes reportable acquisitions of applicable insurance contracts.

Respondents: Private sector: Not-for-profit institutions.

Estimated Total Burden Hours: 1,794,500.

OMB Number: 1545-2098.

Type of Review: Extension without change of a currently approved collection.

Title: Rev. Proc. 2007-99 (RP-127367-07), 9100 Relief Under Sections 897 and 1445.

Abstract: The IRS needs certain information to determine whether a taxpayer should be granted permission to make late filings of certain statements or notices under sections 897 and 1445. The information submitted will include a statement by the taxpayer demonstrating reasonable cause for the failure to timely make relevant filings under sections 897 and 1445.

Respondents: Private sector: Businesses or other for-profits.

Estimated Total Burden Hours: 4.

OMB Number: 1545-2195.

Type of Review: Extension without change of a currently approved collection.

Title: Statement of Foreign Financial Assets.

Form: 8938.

Abstract: The collection of information in Form 8938 will be the means by which taxpayers will comply with self-reporting obligations imposed under section 6038D with respect to foreign financial assets.

Respondents: Individuals or Households.

Estimated Total Burden Hours: 378,000.

OMB Number: 1545-2197.

Type of Review: Extension without change of a currently approved collection.

Title: Bond Tax Credit.

Form: 1097-BTC.

Abstract: This is an information return for reporting tax credit bond credits distributed to holders of tax credit bonds. The taxpayer holding a tax credit bond on an allowance date during a tax year is allowed a credit against Federal income tax equivalent to the interest that the bond would otherwise pay. The bondholder must include the amount of the credit in gross income and treat it as interest income. The issuers and holders of the tax credit bond will send Form 1097-BTC to the bond holders quarterly and file the return with the IRS annually.

Respondents: Private sector: Businesses or other for-profits.

Estimated Total Burden Hours: 828,287,508.

Bureau Clearance Officer: Yvette Lawrence, Internal Revenue Service, 1111 Constitution Avenue, NW., Washington, DC 20224; (202) 927-4374.

OMB Reviewer: Shagufta Ahmed, Office of Management and Budget, New Executive Office Building, Room 10235, Washington, DC 20503; (202) 395-7873.

Dawn D. Wolfgang,
Treasury PRA Clearance Officer.

[FR Doc. 2011-8675 Filed 4-11-11; 8:45 am]

BILLING CODE 4830-01-P